DEPARTMENT OF HOMELAND SECURITY

Coast Guard

33 CFR Part 117

[Docket No. USCG-2018-0216]

Drawbridge Operation Regulation; Long Creek & Sloop Channel, Hempstead, NY

AGENCY: Coast Guard, DHS.

ACTION: Notice of deviation from drawbridge regulation.

SUMMARY: The Coast Guard has issued a temporary deviation from the operating schedule that governs the Loop Parkway Bridge across Long Creek, mile 0.7, and Meadowbrook State Parkway Bridge across Sloop Channel, mile 12.8, both at Hempstead, New York. This deviation is necessary in order to facilitate a motorcycle ride event and allows both bridges to remain in the closed position for two hours.

DATES: This deviation is effective from 11 a.m. to 1 p.m. on September 30, 2018.

ADDRESSES: The docket for this deviation, USCG-2018-0216, is available at http://www.regulations.gov. Type the docket number in the “SEARCH” box and click “SEARCH”. Click on Open Docket Folder on the line associated with this deviation.

FOR FURTHER INFORMATION CONTACT: If you have questions on this temporary deviation, call or email Ms. Judy K. Leung-Yee, Bridge Management Specialist, First District Bridge Branch, U.S. Coast Guard; telephone 212-514-4336, email Judy.K.Leung-Yee@uscg.mil.

SUPPLEMENTARY INFORMATION: The event sponsor requested and the bridge owner for both bridges, the New York State Department of Transportation, concurred with this temporary deviation from the normal operating schedule to facilitate a public event, the Dee Snider's Motorcycle Ride to Benefit Melissa's Wish.

The Loop Parkway Bridge, mile 0.7, across Long Creek has a vertical clearance in the closed position of 21 feet at mean high water and 25 feet at mean low water. The existing bridge operating regulations are found at 33 CFR 117.799(f).

The Meadowbrook State Parkway Bridge, mile 12.8, across Sloop Channel has a vertical clearance in the closed position of 22 feet at mean high water and 25 feet at mean low water. The existing bridge operating regulations are found at 33 CFR 117.799(h).

Under this temporary deviation, the Loop Parkway Bridge and the Meadowbrook State Parkway Bridge may remain in the closed position between 11 a.m. and 1 p.m. on September 30, 2018. Both waterways are used primarily by seasonal recreational vessels and commercial fishing vessels. Coordination with Coast Guard Sector Long Island Sound has indicated no mariner objections to the proposed short-term closure of the draw. Vessels able to pass through the bridge in the closed position may do so at all times. The bridges will be able to open for emergencies and there is no immediate alternate route for vessels to pass.

The Coast Guard will also inform the users of the waterways through our Local and Broadcast Notices to Mariners of the change in operating schedule for the bridge so that vessel operators can arrange their transits to minimize any impact caused by the temporary deviation.

In accordance with 33 CFR 117.35(e), both drawbridges must return to its regular operating schedule immediately at the end of the effective period of this temporary deviation. This deviation from the operating regulations is authorized under 33 CFR 117.35.

Dated: May 17, 2018.
C.J. Bisignano,
Supervisory Bridge Management Specialist, First Coast Guard District.

[FR Doc. 2018-10940 Filed 5-21-18; 8:45 am]

BILLING CODE 9110-04-P